DEPARTMENT OF LABOR

Employment and Training Administration

[TA-W-82,095]

Verizon Services Corporation, Customer Service Clerk, General Clerk, Clarksburg, West Virginia; Notice of Negative Determination on Reconsideration

On January 15, 2013, the Department of Labor issued an Affirmative Determination Regarding Application for Reconsideration for the workers and former workers of Verizon Services Corporation, Customer Service Clerk, General Clerk, Clarksburg, West Virginia (subject firm). The Department's Notice was published in the Federal Register on February 6, 2013 (78 FR 8589).

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

Verizon Services Corporation is engaged in the supply of telecommunication and wireless support services.

Workers of Verizon Services Corporation's Customer Service Clerk, General Clerk business unit at Clarksburg, West Virginia (subject worker group) are engaged in employment related to the supply of customer service and support services for Verizon Services Corporation customers/clients.

The initial investigation resulted in a negative determination based on the Departments' findings of no shift in the supply of customer service and support services, or like or directly competitive services, to a foreign country; no increased imports of customer service and support services (or like or directly competitive services) during the relevant period; that the subject firm is neither a Supplier or a Downstream Producer; and that the subject firm was not named by the International Trade Commission as required by Section 222(e) of the Trade Act, as amended.

In the request for reconsideration, the petitioning worker alleged that work performed by the subject worker group was outsourced to not only Mexico but also the Philippines and India; that the worker group at Clarksburg, West Virginia are similarly situated as workers who are eligible to apply for Trade Adjustment Assistance (TAA) under TA-W-81,968; that the workers “performed all aspects of customer service in telecommunications” such as order management; that “inter-company numbers were changed to Spanish”; and that “When calling within the company for internet issues, we spoke with Verizon workers in India.”

During the reconsideration investigation, the Department carefully reviewed the petition and its attachments, previously-submitted information from the subject firm, the certification of TA-W-81,968 and new information obtained from the subject firm regarding the allegations set forth in the request for reconsideration.

During the reconsideration investigation, the Department confirmed that the subject firm did not shift to a foreign country the supply of services like or directly competitive with the customer service or support services supplied by the subject workers and that, during the relevant period, the subject firm did not import services like or directly competitive with the customer service or support services supplied by the subject workers. The subject firm also affirmed that the petitioning workers voluntarily left employment from the subject firm, as permitted by the collective bargaining agreement applicable to the worker group at the Clarksburg, West Virginia facility.

Further, the workers and former workers eligible to apply for TAA under TA-W-81,968 (Verizon Business Networks Services, Inc., Senior Analysts-Sales Implementation, Birmingham, Alabama) are not similarly-situated as workers covered by TA-W-82,095 because the services supplied by the two worker groups differ and the petitioning workers belong to a different business unit. Further, Verizon Business Networks Services, Inc. is not the same company as Verizon Services Corporation.

Therefore, after careful review of the petition and its attachments, previously-submitted information, the request for reconsideration, the certification of TA-W-81,968 and information obtained during the reconsideration investigation, the Department determines that 29 CFR 90.18(c) has not been met.

Conclusion

After careful review, I determine that the requirements of Section 222 of the Act, 19 U.S.C. 2272, have not been met and, therefore, deny the petition for group eligibility of Verizon Services Corporation, Customer Service Clerk, General Clerk, Clarksburg, West Virginia, to apply for adjustment assistance, in accordance with Section 223 of the Act, 19 U.S.C. 2273.

Signed in Washington, DC on this 16th day of May, 2013.
Del Min Amy Chen,
Certifying Officer, Office of Trade Adjustment Assistance.

[FR Doc. 2013-12739 Filed 5-29-13; 8:45 am]

BILLING CODE 4510-FN-P